DEPARTMENT OF JUSTICE

Drug Enforcement Administration

[Docket No. DEA-392]

Bulk Manufacturer of Controlled Substances Registration

ACTION: Notice of registration.

SUMMARY: The registrant listed below has applied for and been granted a registration by the Drug Enforcement Administration (DEA) as bulk manufacturer of a schedule I controlled substance.

SUPPLEMENTARY INFORMATION: The company listed below applied to be registered as a bulk manufacturer of a various basic class of a schedule I controlled substance. Information on the previously published notice is listed in the table below. No comments or objections were submitted for this notice.

Company | FR Docket | Published
Specgx, LLC | 83 FR 51983 | October 15, 2018.

The DEA has considered the factors in 21 U.S.C. 823(a) and determined that the registration of this registrant to manufacture the applicable basic class of controlled substance is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the DEA has granted a registration as a bulk manufacturer to the above listed company.

Dated: January 30, 2019.
John J. Martin,
Assistant Administrator.

[FR Doc. 2019-01862 Filed 2-8-19; 8:45 am]

BILLING CODE 4410-09-P